DEPARTMENT OF HEALTH AND HUMAN SERVICES

Health Resources and Services Administration

Charter Renewal for the National Advisory Committee on Rural Health and Human Services

AGENCY: Health Resources and Services Administration (HRSA), Department of Health and Human Services (HHS).

ACTION: Notice.

SUMMARY: In accordance with the Federal Advisory Committee Act, HHS is hereby giving notice that the National Advisory Committee on Rural Health and Human Services (NACRHHS or Committee) has been renewed. The effective date of the renewed charter is October 29, 2023.

FOR FURTHER INFORMATION CONTACT: Sahira Rafiullah, Federal Office of Rural Health Policy, HRSA, 5600 Fishers Lane, 17W36, Rockville, Maryland 20857; 240-316-5874 or srafiullah@hrsa.gov.

SUPPLEMENTARY INFORMATION: NACRHHS is authorized by Section 222 of the Public Health Service Act (42 U.S.C. 217a). The Committee is governed by provisions of the Federal Advisory Committee Act (FACA) (5 U.S.C. chapter 10), which sets forth standards for the formation and use of advisory committees.

NACRHHS provides advice and recommendations to the Secretary of HHS on issues related to how HHS and its programs serve rural communities. The Committee will focus attention on rural health and human service problems, such as the provision and financing of health care and human services in rural areas.

The charter renewal for the NACRHHS was approved on October 20, 2023. Renewal of the NACRHHS charter gives authorization for the committee to operate until October 29, 2025. A copy of the NACRHHS charter is available on the NACRHHS website at https://www.hrsa.gov/advisory-committees/rural-health. A copy of the charter also can be obtained by accessing the FACA database that is maintained by the Committee Management Secretariat under the General Services Administration. The website address for the FACA database is http://www.facadatabase.gov/.

Maria G. Button,
Director, Executive Secretariat.

[FR Doc. 2023-23852 Filed 10-27-23; 8:45 am]

BILLING CODE 4165-15-P